NATIONAL SCIENCE FOUNDATION

Sunshine Act Meetings; National Science Board

The National Science Board's Subcommittee on Facilities (SCF), pursuant to NSF regulations (45 CFR part 614), the National Science Foundation Act, as amended (42 U.S.C. 1862n-5), and the Government in the Sunshine Act (5 U.S.C. 552b), hereby gives notice of the scheduling of a teleconference for the transaction of National Science Board business, as follows:

Date & Time: Thursday, April 17, 2014, from 11:45 a.m.-12:45 p.m. EDT.

Subject Matter: SCF members will discuss draft recommendations for the FY 2013 APR, and receive an update on the Regional Class Research Vessels (RCRV).

Status: Closed.

This meeting will be held by teleconference. Please refer to the National Science Board Web site www.nsf.gov/nsb for additional information and schedule updates (time, place, subject matter or status of meeting). Point of contact for this meeting is John Veysey at jveysey@nsf.gov.

Ann Bushmiller,
Senior Counsel to the National Science Board.

[FR Doc. 2014-08652 Filed 4-11-14; 4:15 pm]

BILLING CODE 7555-01-P